DEPARTMENT OF TRANSPORTATION

Pipeline and Hazardous Materials Safety Administration

49 CFR Parts 191, 192, 193 and 195

[Docket No. PHMSA-2012-0001]

Pipeline Safety: Implementation of the National Registry of Pipeline and Liquefied Natural Gas Operators

AGENCY: Pipeline and Hazardous Materials Safety Administration (PHMSA), DOT.

ACTION: Issuance of Advisory Bulletin.

SUMMARY: This notice advises owners and operators of pipeline facilities of PHMSA's plan for implementing the national registry of pipeline and liquefied natural gas operators. This notice provides updates to the information contained in a PHMSA Advisory Bulletin published on January 13, 2012 (77 FR 2126).

FOR FURTHER INFORMATION CONTACT: Jamerson Pender, Information Resources Manager, 202-366-0218 or by email at Jamerson.Pender@dot.gov.

SUPPLEMENTARY INFORMATION:

I. Background

On November 26, 2010, PHMSA published a final rule in the Federal Register (75 FR 72878) titled: “Pipeline Safety: Updates to Pipeline and Liquefied Natural Gas Reporting Requirements.” That final rule added two new sections, 49 CFR 191.22 and 195.64, to the pipeline safety regulations that concerned the establishment of a national registry of pipeline and liquefied natural gas (LNG) operators. New operators use the national registry to obtain an Operator Identification (OPID) Number and existing operators use it to notify PHMSA of certain actions, including company name changes, certain construction activities, and project planning.

The national pipeline operator registry became effective on January 1, 2012. In compliance with the Paperwork Reduction Act requirements, PHMSA issued a 60-day Federal Register notice on December 13, 2010 (75 FR 77694), and a 30-day Federal Register notice on November 10, 2011 (76 FR 70217). The purpose of these notices was to gather and respond to comments on the actual forms used to collect information for the national pipeline operator registry.

PHMSA is issuing this advisory bulletin to clarify the implementation of the national pipeline operator registry.

II. Advisory Bulletin (ADB-2012-04)

To: Owners and Operators of Pipeline and LNG Facilities.

Subject: Implementation of the National Registry of Pipeline and LNG Operators.

Advisory: This notice advises owners and operators of pipeline facilities of PHMSA's plan for implementing the national registry of pipeline and LNG operators. This notice provides updates to the information contained in a PHMSA Advisory Bulletin on the same subject published on January 13, 2012 (77 FR 2126).

OPID Assignment Requests—§§ 191.22(a) and 195.64(a)

From January 1, 2012, to January 27, 2012, PHMSA collected fillable pdf versions of OPID Assignment Request (Form F 1000.1). Starting January 27, 2012, the Online Data Reporting System (ODES) is used by entities requesting a new OPID. PHMSA is entering the pdf versions of OPID Assignment Request forms into ODES and will notify requestors when the OPID has been established.

While subject to the pipeline safety regulations, operators of master meter systems or petroleum gas systems that serve fewer than 100 customers from a single source are not required to file annual reports (see 49 CFR 191.11(b)). There were several thousand master meter system operators and several hundred small liquefied petroleum gas (LPG) operators who fell within the scope of this exception as of December 31, 2011.

While also subject to the requirements of 49 CFR 191.22, PHMSA previously determined that the operators of these systems would not be required to obtain an OPID. Instead, PHMSA agreed to create OPIDs for these operators based on the existing data in the agency's files. That is currently underway and will be completed by May 1, 2012.

In light of this experience, PHMSA has decided that master meter and small LPG operators established after December 31, 2011, will be required to obtain an OPID in accordance with 49 CFR 191.22. On May 1, 2012, PHMSA will modify ODES to allow these master meter and small LPG operators to request an OPID. The requirement to request an OPID continues to not apply to master meter and small LPG operators in existence prior to December 31, 2011.

Notifications—§§ 191.22(c) and 195.64(c)

On January 1, 2012, PHMSA began collecting fillable pdf versions of Notifications (Form F 1000.2). Starting March 27, 2012, operators will be able to submit notifications online through ODES, and PHMSA will enter all of the pdf versions of the notifications into ODES shortly thereafter.

Hazardous liquid pipeline operators are advised to disregard the notification requirement in § 195.64(c)(1)(iii). That provision requires notification for construction of any new pipeline facility without regard to cost. Section 195.64(c)(1)(i) also requires notification for construction of a new pipeline facility, but only for those projects with a cost of $10 million or more. PHMSA only wants notification of hazardous liquid pipeline facility construction projects with a cost of $10 million or more and plans to remove § 195.64(c)(1)(iii) in a future rulemaking.

OPID Validation—§§ 191.22(b) and 195.64(b)

On March 27, 2012, operators will be able to complete the validation process online. PHMSA requests that all OPIDs issued prior to January 1, 2012, complete the validation process. As with OPID Assignment Requests, master meter and small LPG operators in existence prior to December 31, 2011, are not required to complete the validation process. Based on the delayed availability of the on-line validation process, PHMSA is extending the regulatory deadline for validation from June 30, 2012, to September 30, 2012. PHMSA recommends that operators submit calendar year 2011 annual reports at least five working days prior to completing the validation process.

Further details on how to submit reports to PHMSA are available at http://opsweb.phmsa.dot.gov. Questions should be directed to the Office of Pipeline Safety operator helpline at 202-366-8075.

Issued in Washington, DC, on March 9, 2012.
Jeffrey D. Wiese,
Associate Administrator for Pipeline Safety.

[FR Doc. 2012-6860 Filed 3-20-12; 8:45 am]

BILLING CODE 4910-60-P